DEPARTMENT OF THE INTERIOR

Bureau of Land Management

[LLCA930000.L14400000.EU0000.16XL1109AF; CACA 54031]

Notice of Realty Action: Direct Sale of Reversionary Interest in San Bernardino County, California

AGENCY: Bureau of Land Management, Interior.

ACTION: Notice.

SUMMARY: The Bureau of Land Management (BLM), Needles Field Office, proposes to sell the United States' reversionary interest in 2.31 acres of land in San Bernardino County, California to the City of Needles (City) at not less than fair market value in the amount of $139,994. The land was conveyed out of Federal ownership in 1966 subject to a reversionary interest which is now proposed for sale under the authority of the Federal Land Policy and Management Act (FLPMA) of 1976, as amended.

DATES: Comments regarding the proposed sale must be received by the BLM on or before July 25, 2016.

ADDRESSES: You may submit written comments concerning the proposed sale to the Field Manager, BLM, Needles Field Office, 1303 South Highway 95, Needles, California 92363.

FOR FURTHER INFORMATION CONTACT: William Webster, Realty Specialist, BLM Needles Field Office, telephone 760-326-7006; address 1303 South Highway 95, Needles, California 92363. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The reversionary interest in the following land is proposed for direct sale in accordance with Section 203 of the FLPMA, as amended (43 U.S.C. 1713).

San Bernardino Meridian, California

T. 9 N., R. 23 E., sec. 31, lot 6.

The area described contains 2.31 acres.

The area described above is part of 50 acres conveyed in 1966 to the City in patent 04-67-0018 under the authority of the Recreation and Public Purposes Act (R&PP Act) of June 14, 1926, as amended. The land was conveyed for park and recreational purposes for $2.50 per acre. The United States (U.S.) retained an interest in the land in which title could revert back to the U.S. if the land is not used for purposes authorized under the R&PP Act or if the land is transferred to another party without the BLM's approval. In 1971, the BLM approved a change in use to allow the City to construct the Needles Municipal Hospital on 2.31 acres of the land conveyed in patent 04-67-0018. In 2010, the voters of Needles approved Measure Q, which effectively required the City to sell the Needles Municipal Hospital to a qualified non-profit corporation. The sale has been complicated by the fact that the Needles Municipal Hospital is located on 2.31 acres owned by the City subject to the reversionary interest and approximately 3.36 acres owned by the City which is not subject to a reversionary interest. The City agreed to sell the land occupied by the Needles Municipal Hospital to Community Healthcare Partner, Inc., a non-profit corporation. The sale is contingent on the BLM selling the reversionary interest in the 2.31 acres of land occupied by the Needles Municipal Hospital so the City can convey the land free of any reversionary interest. The sale would allow for possible future commercial use of the 2.31 acres, including a for-profit hospital, and allow for future transfers of the land without the BLM's approval.

The reversionary interest in the 2.31 acres of land described above is proposed for sale to the City for $139,994, which represents the appraised fair market value of $140,000, less $6.00 paid to the BLM to purchase the land in 1966. The reversionary interest is difficult and uneconomic to manage as part of the public lands because it is surrounded by private land and is not contiguous to any public land administered by the BLM. The BLM has concluded that a competitive sale is not appropriate and that the public interest would best be served by a direct sale to the City, which currently owns the land subject to the reversionary interest. The reversionary interest was not identified for sale in the 1980 California Desert Conservation Area (CDCA) Plan. On January 14, 2015, the BLM approved an amendment to the 1980 CDCA Plan, which identified the reversionary interest in the 50 acres conveyed to the City in 1966 in patent 04-67-0018 as suitable for sale pursuant to section 203 of FLPMA.

The reversionary interest would not be sold until at least August 9, 2016. Any conveyance document issued would convey only the reversionary interest retained by the U.S. in patent 04-67-0018 and would contain the following terms, conditions, and reservations:

1. A condition that the conveyance be subject to all valid existing rights of record.

2. A condition that the conveyance would be subject to all reservations, conditions and restrictions in patent 04-67-0018, except the reversionary interest which is being conveyed.

3. An appropriate indemnification clause protecting the United States from claims arising out of the patentee's use, occupancy, or operations on the patented lands.

4. Additional terms and conditions that the authorized officer deems appropriate.

Detailed information concerning the proposed sale including the appraisal, planning and environmental document are available for review at the location identified in the ADDRESSES section above.

Public comments regarding the proposed sale may be submitted in writing to the attention of the BLM Needles Field Manager (see ADDRESSES above) on or before July 25, 2016. Comments received in electronic form, such as email will not be considered. Any adverse comments regarding the proposed sale will be reviewed by the BLM State Director or other authorized official of the Department of the Interior, who may sustain, vacate, or modify this realty action in whole or in part. In the absence of timely filed objections, this realty action will become the final determination of the Department of the Interior.

Before including your address, phone number, email address, or other personal identifying information in your comment, you should be aware that your entire comment—including your personal identifying information—may be made publicly available at any time. While you can ask us in your comment to withhold your personal identifying information from public review, we cannot guarantee that we will be able to do so.

Authority: 43 CFR 2711.1-2(a) and (c).

Thomas Pogacnik,
Deputy State Director, Resources.

[FR Doc. 2016-13773 Filed 6-9-16; 8:45 am]

BILLING CODE 4310-40-P